DEPARTMENT OF ENERGY

Federal Energy Regulatory Commission

[Docket No. AD03-7-001]

Natural Gas Price Formation; Notice of Staff Technical Conference & Workshop on Energy Price Discovery & Indices

May 29, 2003.

The Federal Energy Regulatory Commission (FERC) will hold a technical conference on Tuesday, June 24, 2003, at FERC headquarters, 888 First Street, NE., Washington, DC, in the Commission Meeting Room (Room 2C). The Commodity Futures Trading Commission (CFTC) and the National Association of Regulatory Utility Commissioners (NARUC) are participating.

At an April 24, 2003, conference on Natural Gas Price Formation in this docket, Commission staff explored issues relating to the sufficiency of currently collected and published natural gas price information. Authenticity and reliability of the data and adequacy of coverage were discussed. At the upcoming conference we intend to weigh options and facilitate solutions that would ensure accurate, transparent and reliable gas and electric price indices.

We seek consensus on the best near-term option that will satisfy public policy goals in a timely, effective and efficient fashion. The discussion will be focused on comparing the merits of various options, including industry solutions and solutions involving regulatory or self-regulatory oversight, and what would be required to implement each option. Staff plans to issue an options paper in this docket and on the Commission's Web site by June 13. To advance public understanding of the options, the conference will include panelists to explain some of the less familiar options such as Self-Regulating Organizations (SROs) and audited data hubs.

This one-day meeting will begin at 9 a.m. and conclude about 5 p.m. All interested parties are invited to attend. There is neither a registration fee nor preregistration to attend this conference.

We look forward to an informative discussion of the options and a determination of which would best provide all participants in the market clear, transparent, dependable, and accurate price signals with which to make informed decisions.

The Capitol Connection offers coverage of all open and special Commission meetings held at the Commission's headquarters live over the Internet, as well as via telephone and satellite. For a fee, you can receive these meetings in your office, at home, or anywhere in the world. To find out more about Capitol Connection's live Internet, phone bridge, or satellite coverage, contact David Reininger or Julia Morelli at (703) 993-3100, or visit http://www.capitolconnection.org. Capitol Connection also offers FERC open meetings through its Washington, DC-area television service.

The conference will be transcribed. Those interested in obtaining transcripts of the conference should contact Ace Federal Reporters at (202) 347-3700 or (800) 336-6646. Transcripts will be made available to view electronically under this docket number seven working days after the conference. Anyone interested in purchasing videotapes of the meeting should call VISCOM at (703) 715-7999.

We will issue further details on the conference, including the Agenda and a list of participants, as plans evolve. For additional information, please contact Saida Shaalan of the Office of Market Oversight & Investigations at 202-502-8278 or by e-mail, Saida.Shaalan@ferc.gov.

Magalie R. Salas,
Secretary.

[FR Doc. 03-14019 Filed 6-3-03; 8:45 am]

BILLING CODE 6717-01-P